DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before March 22, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Forms 945, 945-A, 945-X and TD 8672.

OMB Control Number: 1545-1430.

Type of Review: Extension of a currently approved collection.

Description: Form 945 is used to report income tax withholding on non-payroll payments including backup withholding and withholding on pensions, annuities, IRAs, military retirement, and gambling winnings. Form 945-A is used by employers who deposit non-payroll income tax withheld (such as from pensions and gambling) on a semiweekly schedule, or whose tax liability on any day is $100,000 or more, use Form 945-A with Form 945 or CT-1 to report their tax liability. Form 945-X is used to correct errors made on Form 945, Annual Return of Withheld Federal Income Tax. TD 8672 relates to the reporting of non-payroll withheld income taxes under section 6011 of the Internal Revenue Code. The regulations require a person to file Form 945, Annual Return of Withheld Federal Income Tax, only for a calendar year in which the person is required to withhold Federal income tax from nonpayroll payments.

Form: IRS Form 945, IRS Form 945-A, IRS Form 945-X, and TD 8672.

Affected Public: Individuals or Households; Businesses or other for-profit organizations; Not-for-profit institutions; and Federal, State, Local, and Tribal governments.

Estimated Number of Respondents: 59,318.

Frequency of Response: Annually.

Estimated Total Number of Annual Responses: 59,318.

Estimated Time per Response: 6 hour, 56 minutes.

Estimated Total Annual Burden Hours: 411,278 hours.

2. Title: Master and Prototype and Volume Submitter Plans, Revenue Procedure 2017-41.

OMB Control Number: 1545-1674.

Type of Review: Extension of a currently approved collection.

Description: This revenue procedure modifies Rev. Proc. 2015-36 and sets forth the procedures for the merger of the master and prototype (M&P) program with the volume submitter (VS) plan. This revenue procedure requires employers adopting pre-approved plans to complete and sign new signature pages or new adoption agreements, as applicable, to restate their plans for recent changes in the law. This revenue procedure requires sponsors of pre-approved plans to furnish copies of their plans to the Service's Employee Plans Determinations office; to maintain records of employers that have adopted their plans; to prepare and communicate any necessary interim amendments to adopting employers; to make reasonable and diligent efforts to ensure that employers restate their plans when necessary; to notify employers if the sponsor concludes that employers' plans are no longer qualified; and to provide that mass submitters must keep records of their user fees. This allows mass submitters to certify to the number of other practitioners seeking approval of the identical pre-approved plan.

Regulation Project Number: Revenue Procedure 2017- 41.

Affected Public: Individuals or Households; Businesses or other for-profit organizations; Not-for-profit institutions; and Federal, State, Local, and Tribal governments.

Estimated Number of Respondents: 321,500.

Frequency of Response: On Occasion.

Estimated Total Number of Annual Responses: 321,500.

Estimated Time per Response: 3 hours, 45 minutes.

Estimated Total Annual Burden Hours: 1,108,225 hours.

3. Title: Election Out of Generation-Skipping Transfer Tax (GST) Deemed Allocations.

OMB Control Number: 1545-1892.

Type of Review: Extension of a currently approved collection.

Description: This information is required by the IRS for taxpayers who elect to have the automatic allocation rules not apply to the current transfer and/or to future transfers to the trust or to terminate such election. This information is also required by the IRS for taxpayers who elect to treat trusts described in section 2632(c)(3)(B)(i) through (vi) as GST trusts or to terminate such election. This information will be used to identify the trusts to which the election or termination of election will apply.

Affected Public: Individuals or Households.

Estimated Number of Respondents: 25,000.

Frequency of Response: On Occasion.

Estimated Total Number of Annual Responses: 25,000.

Estimated Time per Response: 30 minutes.

Estimated Total Annual Burden Hours: 12,500 hours.

4. Title: Longevity Annuity Contracts.

OMB Control Number: 1545-2234.

Type of Review: Extension of a currently approved collection.

Description: This collection covers final regulations relating to the use of longevity annuity contracts in tax qualified defined contribution plans under section 401(a) of the Internal Revenue Code (Code), section 403(b) plans, individual retirement annuities and accounts (IRAs) under section 408, and eligible governmental plans under section 457(b).

Form 1098-Q is used to comply with the reporting requirements under TD 9673. Any person who issues a contract intended to be a QLAC that is purchased or held under any plan, annuity, or account described in section 401(a), 403(a), 403(b), 408 (other than a Roth IRA) or eligible governmental plan under section 457(b), must file Form 1098-Q.

Form Number: IRS Form 1098-Q and TD 9673.

Affected Public: Individuals or Households; Businesses or other for-profit organizations; and Not-for-profit institutions.

Estimated Number of Respondents: 150.

Frequency of Response: Annually.

Estimated Total Number of Annual Responses: 213,966.

Estimated Time per Response: 8 minutes.

Estimated Total Annual Burden Hours: 28,529 hours.

5. Title: Notice of Intent to Operate Under Section 501(c)(4), Form 8976.

OMB Control Number: 1545-2268.

Type of Review: Extension of a currently approved collection.

Description: The Protecting Americans from Tax Hikes Act of 2015 (the PATH Act) section 506 to the Internal Revenue Code (Code) requires an organization described in section 501(c)(4), no later than 60 days after the organization is established, to notify the Secretary that it is operating as a section 501(c)(4) organization (the notification). Section 506(b) provides that the notification must include: (1) The name, address, and taxpayer identification number of the organization; (2) the date on which, and the State under the laws of which, the organization was organized; and (3) a statement of the purpose of the organization.

Form Number: IRS Form 8976.

Affected Public: Businesses or other for-profit organizations.

Estimated Number of Respondents: 2,500.

Frequency of Response: Once.

Estimated Total Number of Annual Responses: 2,500.

Estimated Time per Response: 45 minutes.

Estimated Total Annual Burden Hours: 1,875 hours.

Authority: 44 U.S.C. 3501 et seq.

Dated: February 16, 2021.
Molly Stasko,
Treasury PRA Clearance Officer.

[FR Doc. 2021-03413 Filed 2-18-21; 8:45 am]

BILLING CODE 4830-01-P